DEPARTMENT OF TRANSPORTATION

Federal Aviation Administration

[Summary Notice No. PE-2000-13

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspects of FAA's regulatory activities. Neither publication of this notice nor the inclusion or omission of information in the summary is intended to affect the legal status of any petition or its final disposition.

DATES: Comments on petitions received must identify the petition docket number involved and must be received on or before April 18, 2000.

ADDRESSES: Send comments on any petition in triplicate to: Federal Aviation Administration, Office of the Chief Counsel, Attn: Rule Docket (AGC-200), Petition Docket No. _____, 800 Independence Avenue, SW., Washington, D.C. 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271 or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on March 23, 2000.
Donald P. Byrne,
Assistant Chief Counsel for Regulations.

Dispositions of Petitions

Docket No.: 25052.

Petitioner: Promech, Inc.

Section of the FAR Affected: 14 CFR 135.203(a)(1).

Description of Relief Sought/Disposition: To permit Promech and six similarly situated certificate holders conducting operations under part 135 to operate seaplanes inside the Ketchikan, Alaska, Class E airspace under Special Visual Flight Rules below 500 feet above the surface.

Grant, 02/28/2000, Exemption No. 4760H.

Docket No.: 25390.

Petitioner: Airbus Industrie.

Section of the FAR Affected: 14 CFR 145.35.

Description of Relief Sought/Disposition: To permit the production units of the members and associated partners of the Airbus consortium to be certificated collectively under Airbus as a U.S. foreign repair station to support the operation of U.S.-registered A300, A310, A319, A320, A321, A330, and A340 series airplanes.

Grant, 02/28/2000, Exemption No. 6029B.

Docket No.: 29052.

Petitioner: Business Airfreight.

Section of the FAR Affected: 14 CFR 43.3.

Description of Relief Sought/Disposition: To permit appropriately trained and certificated pilots employed by BAF to replace navigation lightbulbs, landing lightbulbs, taxi lightbulbs, missing or broken static wicks, and missing or broken bonding straps on BAF's aircraft used in operations conducted under 14 CFR part 135.

Denial, 02/29/2000, Exemption No. 7131.

Docket No.: 29116.

Petitioner: Taconite Aviation, Inc.

Section of the FAR Affected: 14 CFR 135.143(c)(2).

Description of Relief Sought/Disposition: To permit TAI to operate certain aircraft under part 135 without a TSO-C112 (Mode S) transponder installed on each aircraft.

Grant, 02/09/2000, Exemption No. 6735A.

Docket No.: 29288.

Petitioner: Mr. Patrick J. Halloran.

Section of the FAR Affected: 14 CFR 65.104(a)(2).

Description of Relief Sought/Disposition: To permit Mr. Halloran to satisfy the eligibility requirement for a repairman certificate (experimental aircraft builder) without being the primary builder of the aircraft to which the certificate privileges would apply.

Denial, 02/24/2000, Exemption No. 7127.

Docket No.: 29410.

Petitioner: U.S. Technical.

Section of the FAR Affected: 14 CFR 145.37(b).

Description of Relief Sought/Disposition: To permit U.S. Technical to install, modify, and retrofit passenger and cabin amenities at customer facilities without providing suitable permanent housing for at least one of the heaviest aircraft for which it is rated.

Denial, 02/24/2000, Exemption No. 7130.

Docket No.: 29695.

Petitioner: Raytheon Systems Company.

Section of the FAR Affected: 14 CFR 145.45(f).

Description of Relief Sought/Disposition: To permit Raytheon to make its Inspection Procedures Manual (IPM) available electronically to its supervisory, inspection, and other personnel, rather than give a paper copy of the IPM to each of its supervisory and inspection personnel.

Grant, 02/03/2000, Exemption No. 7115.

Docket No.: 29799.

Petitioner: Bombardier Aerospace.

Section of the FAR Affected: 14 CFR 145.45(f).

Description of Relief Sought/Disposition: To permit Bombardier to place an adequate number of repair station IPMs in inspection areas and to assign IPMs to key individuals.

Grant, 02/03/2000, Exemption No. 7114.

Docket No.: 29822.

Petitioner: Mr. John A. Chunis.

Section of the FAR Affected: 14 CFR 135.251, 135.255, 135.353, and appendixes I and J to part 121.

Description of Relief Sought/Disposition: To permit Mr. Chunis to conduct one local sightseeing flight for compensation or hire, auctioned off to raise funds for the United Way, without complying with certain anti-drug and alcohol misuse prevention requirements of part 135.

Grant, 02/04/2000, Exemption No. 7117.

Docket No.: 29845.

Petitioner: Mr. Ronald Drachenberg.

Section of the FAR Affected: 14 CFR 135.251, 135.255, 135.353, and appendixes I and J to part 121.

Description of Relief Sought/Disposition: To permit Mr. Drachenberg to conduct one local sightseeing flight for a fundraising event for the Plainville Congregational Church, Plainville, Connecticut, for compensation or hire, without complying with certain anti-drug and alcohol misuse prevention requirements of part 135.

Grant, 02/25/200, Exemption No. 7128.

Docket No.: 29868.

Petitioner: Dee Howard Aircraft Maintenance, L.P.

Section of the FAR Affected: 14 CFR 145.45(f).

Description of Relief Sought/Disposition: To permit DHM to assign its IPM to specific management personnel rather than give a copy of its IPM to each of its supervisory and inspection personnel.

Grant, 02/24/2000, Exemption No. 7123.

Docket No.: 29929.

Petitioner: Quest Aviation, Inc.

Section of the FAR Affected: 14 CFR 135.143(c)(2).

Description of Relief Sought/Disposition: To permit QAI to operate certain aircraft under part 135 without a TSO-C112 (Mode S) transponder installed in the aircraft.

Grant, 02/16/2000, Exemption No. 7125.

Docket No.: 29931.

Petitioner: Rotary Club of Kern River Valley.

Section of the FAR Affected: 14 CFR 135.251, 135.255, 135.353, and appendixes I and J to part 121.

Description of Relief Sought/Disposition: To permit the Rotary Club of KRV to conduct local sightseeing flights at Kern Valley Airport on February 18, 19, and 20, 2000, for compensation or hire, without complying with certain anti-drug and alcohol misuse prevention requirements of part 135.

Grant, 02/18/2000, Exemption No. 7121.

Docket No.: 29932.

Petitioner: Mr. Maurice H. Witten.

Section of the FAR Affected: 14 CFR 135.251, 135.255, 135.353, and appendixes I and J to part 121.

Description of Relief Sought/Disposition: To permit Mr. Witten to conduct local sightseeing flights in the vicinity of Hays, Kansas, for the Hays Jaycee fund raising event, for compensation or hire, without complying with certain anti-drug and alcohol misuse prevention requirements of part 135.

Grant, 02/22/2000, Exemption No. 7122.

[FR Doc. 00-7635 Filed 3-27-00; 8:45 am]

BILLING CODE 4910-13-M